DEPARTMENT OF STATE

[Public Notice: 9388]

Decision To Maintain Presidential Permit for the Vantage Pipeline Border Facilities in Divide County, North Dakota Following Change in Ownership

AGENCY: Department of State.

ACTION: Notice.

SUMMARY: The Department of State determined on September 22, 2015 to maintain a Presidential Permit for the Vantage Pipeline border facilities following a change in ownership. On October 20, 2014, Vantage Pipeline US LP (Vantage), which owns the Vantage ethane pipeline running from North Dakota into Canada, notified the Department of State that Vantage was being acquired by Pembina Prairie Pipeline (U.S.A.) Ltd. (Pembina U.S.A.), which is owned by Pembina Pipeline Corporation (PPC). The July 16, 2013 Presidential Permit for the Vantage Pipeline border facilities requires the permittee to notify the Department of any change in ownership or control. The Department of State determined that maintaining this permit would serve the national interest. In making this determination, the Department of State followed the procedures established under Executive Order 13337, and provided public notice and opportunity for comment.

FOR FURTHER INFORMATION CONTACT: Office of Europe, Western Hemisphere and Africa, Bureau of Energy Resources, U.S. Department of State, (ENR/EDP/EWA), 2201 C St. NW., Ste. 4843, Washington, DC 20520. Attn: Deputy Director. Tel: 202-647-2041.

SUPPLEMENTARY INFORMATION: Additional information concerning the Vantage pipeline facilities can be found at http://www.state.gov/e/enr/applicant/applicants/pembina/index.htm. Documents related to the Department of State's review of the application for a Presidential Permit can be found at http://www.state.gov/e/enr/applicant.

Dated: December 7, 2015.
Chris Davy,
Deputy Director, Energy Resources Bureau, Energy Diplomacy, (ENR/EDP/EWA), Bureau of Energy Resources, U.S. Department of State.

[FR Doc. 2015-31873 Filed 12-21-15; 8:45 am]

BILLING CODE 4710-AE-P